INTERNATIONAL TRADE COMMISSION

[Investigation Nos. 701-TA-505 and 731-TA-1231, 1232, 1235, and 1237 (Final)]

Grain-Oriented Electrical Steel From China, Czech Republic, Korea, and Russia

Determinations

On the basis of the record ¹ developed in the subject investigations, the United States International Trade Commission (“Commission”) determines, pursuant to sections 705(b) and 735(b) of the Tariff Act of 1930 (19 U.S.C. 1671d(b)) and (19 U.S.C. 1673d(b)) (“the Act”), that an industry in the United States is not materially injured or threatened with material injury, and the establishment of an industry in the United States is not materially retarded, by reason of imports from China, Czech Republic, Korea, and Russia of grain-oriented electrical steel, provided for in subheadings 7225.11 and 7226.11 of the Harmonized Tariff Schedule of the United States, that are sold in the United States at less than fair value (“LTFV”) and that are subsidized by the government of China.²

¹ The record is defined in sec. 207.2(f) of the Commission's Rules of Practice and Procedure (19 CFR 207.2(f)).

² Commissioner Rhonda K. Schmidtlein dissented.

Background

The Commission instituted these investigations effective September 18, 2013, following receipt of a petition filed with the Commission and Commerce by AK Steel Corp., West Chester, Ohio; Allegheny Ludlum, LLC, Pittsburgh, Pennsylvania; and the United Steelworkers, Pittsburgh, Pennsylvania. The final phase of the investigations was scheduled by the Commission following notification of preliminary determinations by Commerce that imports of grain-oriented electrical steel from China were subsidized within the meaning of section 703(b) of the Act (19 U.S.C. 1671b(b)) and that imports of grain-oriented electrical steel from China, Czech Republic, Korea, and Russia were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notices in the Federal Register of June 4, 2014 (79 FR 32310) and August 20, 2014 (79 FR 49339). The hearing was held in Washington, DC, on July 24, 2014, and all persons who requested the opportunity were permitted to appear in person or by counsel.

The Commission completed and filed its determinations in these investigations on November 4, 2014. The views of the Commission are contained in USITC Publication 4500 (November 2014), entitled Grain-Oriented Electrical Steel From China, Czech Republic, Korea, and Russia: Investigation Nos. 701-TA-505 and 731-TA-1231, 1232, 1235, and 1237 (Final).

Issued: November 4, 2014.
By order of the Commission.
Lisa R. Barton,
Secretary to the Commission.

[FR Doc. 2014-26585 Filed 11-7-14; 8:45 am]

BILLING CODE 7020-02-P